FEDERAL COMMUNICATIONS COMMISSION

Notice of Public Information Collection(s) Being Reviewed by the Federal Communications Commission for Extension Under Delegated Authority, Comments Requested

December 1, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 5, 2001. If you anticipate that you will be submitting comments, but find it difficult to do so within the period of time allowed by this notice, you should advise the contact listed below as soon as possible.

ADDRESSES: Direct all comments to Les Smith, Federal Communications Commissions, Room 1 A-804, 445 Twelfth Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0491.

Title: Section 74.991 Wireless cable application procedures.

Form No.: FCC 330/FCC 304.

Type of Review: Extension of currently approved collection.

Respondents: Business or other for-profit.

Number of Respondents: 100.

Estimated Hours Per Response: 4.5 hours (0.5 respondent/4 hours attorney).

Frequency of Response: On occasion.

Cost to Respondents: $116,240.

Estimated Total Annual Burden: 50 hours.

Needs and Uses: Section 74.991 requires that a wireless cable application be filed on FCC Form 330 (3060-0062), Sections I and V, with a complete Form 494 appended. The application must include a cover letter clearly indicating that the application is for a wireless cable entity to operate on ITFS channels. The applicant must also, within 30 days of filing its application give local public notice in a newspaper. The specific data that must be included in the newspaper publication is contained in Section 74.991(c). The notice must be published twice a week for two consecutive weeks. The data is used by FCC staff to insure that proposals to operate a wireless cable system on ITFS channels do not impair or restrict any reasonably foreseeable ITFS use. The data is also used to insure that applicants are qualified to become a Commission licensee and that proposals do not cause interference.

OMB Approval No.: 3060-0490.

Title: Section 74.902 Frequency assignments.

Form No.: FCC 330/FCC 327.

Type of Review: Extension of currently approved collection.

Respondents: Business or other for-profit.

Number of Respondents: 5.

Estimated Hours Per Response: 0.5 hours.

Frequency of Response: On occasion.

Cost to Respondents: $0.

Estimated Total Annual Burden: 2.5 hours.

Needs and Uses: Section 74.902 dictates that when a point-to-point ITFS station on the E and F MDS channels is involuntarily displaced by an MDS applicant, that the MDS applicant files the appropriate application for suitable alternative spectrum. The applications that would be used would be the FCC 327 (3060-0055) and the Form 330 (3060-0062). The burdens for these involuntarily displaced ITFS stations are included in the estimates for the FCC 327 and FCC 330. Additionally, Section 74.902(i) requires that a copy of this application be served on the ITFS licensee to be moved. The data will be used by the ITFS licensee to oppose the involuntary migration if the proposal would not provide comparable ITFS service and to ensure that the public interest is served.

OMB Control No: 3060-0939.

Title: E911-Second Memorandum and Order.

Form No: N.A.

Type of Review: Extension of currently approved collection.

Respondents: Business or other for-profit, not-for-profit institutions, state, local or tribal governments.

Number of Respondents: 50.

Estimated Time Per Response: 1 hour.

Frequency of Response: Occasional reporting requirement.

Total Annual Burden: 50 hours.

Total Annual Cost: 0.

Needs and Uses: Commercial Mobile Radio Service carriers and Public Safety Answering Points who can't agree on the choice of enhanced 911 transmission means and related technologies may ask the Commission to assist in reaching an accord. The requested information will be used by the Commission to enable it to fully participate in negotiations.

Federal Communications Commission.
Magalie Roman Salas,
Secretary.

[FR Doc. 00-31227 Filed 12-6-00; 8:45 am]

BILLING CODE 6712-01-U